DEPARTMENT OF THE INTERIOR

Bureau of Land Management

[WY-957-06-1420-BJ]

Notice of Filing of Plats of Survey, WY

AGENCY: Bureau of Land Management, Interior.

ACTION: Notice of Filing of Plats of Survey, Wyoming.

SUMMARY: The Bureau of Land Management (BLM) has filed the plats of survey of the lands described below in the BLM Wyoming State Office, Cheyenne, Wyoming, on February 3, 2006.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat representing the dependent resurvey of a portion of the north boundary, and a portion of the subdivisional lines, and the subdivision of certain sections, Township 26 North, Range 84 West, Sixth Principal Meridian, Wyoming, was accepted February 3, 2006.

The plat representing the dependent resurvey of a portion of the subdivisional lines, and the subdivision of sections 32 and 33, Township 27 North, Range 84 West, Sixth Principal Meridian, Wyoming, was accepted February 3, 2006.

The plat representing the dependent resurvey of a portion of the subdivisional lines, and the subdivision of section 14, Township 19 North, Range 94 West, Sixth Principal Meridian, Wyoming, was accepted February 3, 2006.

The plat representing the dependent resurvey of a portion of the subdivisional lines, and the subdivision of section 10, Township 15 North, Range 83 West, Sixth Principal Meridian, Wyoming, was accepted February 3, 2006.

The plat representing the dependent resurvey of a portion of the Twelfth Standard Parallel North, through Range 78 West, the east, west, and north boundaries, and portions of the subdivisional lines, Township 49 North, Range 78 West, Sixth Principal Meridian, Wyoming, was accepted February 3, 2006.

Copies of the preceding described plats and field notes are available to the public at a cost of $1.10 per page.

Dated: March 17, 2006.
John P. Lee,
Chief Cadastral Surveyor, Division of Support Services.

[FR Doc. E6-4366 Filed 3-24-06; 8:45 am]

BILLING CODE 4310-22-P